POSTAL REGULATORY COMMISSION

[Docket No. A2010-5; Order No. 526]

Post Office Closing

AGENCY: Postal Regulatory Commission.

ACTION: Notice.

SUMMARY: This document informs the public that an appeal of the closing of the Rentiesville Post Office, Rentiesville, Oklahoma 74459 has been filed. It identifies preliminary steps and provides a procedural schedule. Publication of this document will allow the Postal Service, petitioner, and others to take appropriate action.

DATES: Deadline for filing administrative record: September 9, 2010. For other dates, see Procedural Schedule.

ADDRESSES: Submit filings electronically via the Commission's Filing Online system at http://www.prc.gov. Those who cannot file electronically should contact the person identified in the For Further Information Contact section by telephone for advice on alternatives to electronic filing.

FOR FURTHER INFORMATION CONTACT: Stephen L. Sharfman, General Counsel, stephen.sharfman@prc.gov or 202-789-6820.

SUPPLEMENTARY INFORMATION: Notice is hereby given that pursuant to 39 U.S.C. 404(d), the Commission has received an appeal of the closing of the Rentiesville Post Office, Rentiesville, Oklahoma 74459. The appeal, postmarked August 23, 2010, was received by the Commission on August 25, 2010. The Commission hereby institutes a proceeding under 39 U.S.C. 404(d)(5) and designates the case as Docket No. A2010-5 to consider the petitioner's appeal. If the petitioner would like to further explain her position with supplemental information or facts, she may either file a Participant Statement on PRC Form 61 or file a brief with the Commission by no later than September 29, 2010.

Categories of issues apparently raised. The categories of issues that appear to be raised include: Effect on the community. See 39 U.S.C. 404(d)(2)(A)(i).

After the Postal Service files the administrative record and the Commission reviews it, the Commission may find that there are more legal issues than the one set forth above, or that the Postal Service's determination disposes of one or more of those issues. The deadline for the Postal Service to file the administrative record with the Commission is September 9, 2010. 39 CFR 3001.113.

Availability; website posting. The Commission has posted the appeal and supporting material on its website at http://www.prc.gov. Additional filings in this case and participants' submissions also will be posted on the website, if provided in electronic format or amenable to conversion, and not subject to a valid protective order. Information on how to use the Commission's website is available online or by contacting the Commission's webmaster via telephone at 202-789-6873 or via electronic mail at prc-webmaster@prc.gov.

The appeal and all related documents are also available for public inspection in the Commission's docket section. Docket section hours are 8 a.m. to 4:30 p.m., Monday through Friday, except on Federal government holidays. Docket section personnel may be contacted via electronic mail at prc-dockets@prc.gov or via telephone at 202-789-6846.

Filing of documents. All filings of documents in this case shall be made using the Internet (Filing Online) pursuant to Commission rules 9(a) and 10(a) at the Commission's website, http://www.prc.gov, unless a waiver is obtained. 39 CFR 3001.9(a) and 10(a). Instructions for obtaining an account to file documents online may be found on the Commission's website, http://www.prc.gov, or by contacting the Commission's docket section at prc-dockets@prc.gov or via telephone at 202-789-6846.

Intervention. Those, other than the petitioner and respondent, wishing to be heard in this matter are directed to file a notice of intervention. See 39 CFR 3001.111(b). Notices of intervention are due on or before September 21, 2010. A notice of intervention shall be filed using the Internet (Filing Online) at the Commission's website, http://www.prc.gov, unless a waiver is obtained for hardcopy filing. See 39 CFR 3001.9(a) and 10(a).

Further procedures. By statute, the Commission is required to issue its decision within 120 days from the date this appeal was filed. See 39 U.S.C. 404(d)(5). A procedural schedule has been developed to accommodate this statutory deadline. In the interest of expedition, in light of the 120-day decision schedule, the Commission may request the Postal Service or other participants to submit information or memoranda of law on any appropriate issue. As required by the Commission rules, if any motions are filed, responses are due 7 days after any such motion is filed. 39 CFR 3001.21.

It is ordered:

1. The Postal Service shall file the administrative record in this appeal, or otherwise file a responsive pleading to the appeal, by September 9, 2010.

2. The procedural schedule listed below is hereby adopted.

3. Pursuant to 39 U.S.C. 505, Steven M. Hoffer is designated officer of the Commission (Public Representative) to represent the interests of the general public.

4. The Secretary shall arrange for publication of this notice and order and procedural schedule in the Federal Register.

By the Commission.
Shoshana M. Grove,
Secretary.

Procedural Schedule
August 25, 2010 | Filing of Appeal.
September 9, 2010 | Deadline for Postal Service to file administrative record in this appeal or responsive pleading.
September 21, 2010 | Deadline for petitions to intervene (see 39 CFR 3001.111(b)).
September 29, 2010 | Deadline for petitioner's Form 61 or initial brief in support of petition (see 39 CFR 3001.115(a) and (b)).
October 19, 2010 | Deadline for answering brief in support of Postal Service (see 39 CFR 3001.115(c)).
November 3, 2010 | Deadline for reply briefs in response to answering briefs (see 39 CFR 3001.115(d)).
November 10, 2010 | Deadline for motions by any party requesting oral argument; the Commission will schedule oral argument only when it is a necessary addition to the written filings (see 39 CFR 3001.116).
December 21, 2010 | Expiration of the Commission's 120-day decisional schedule (see 39 U.S.C. 404(d)(5)).

[FR Doc. 2010-22040 Filed 9-2-10; 8:45 am]

BILLING CODE 7710-FW-S